DEPARTMENT OF COMMERCE

National Oceanic and Atmospheric Administration

RIN 0648-BA53

Fisheries of the Caribbean, Gulf of Mexico, and South Atlantic; Snapper-Grouper Fishery off the South Atlantic States; Amendment 22

AGENCY: National Marine Fisheries Service (NMFS), National Oceanic and Atmospheric Administration (NOAA), Commerce.

ACTION: Supplemental Notice of Intent (NOI) to prepare a draft environmental impact statement (DEIS); request for comments.

SUMMARY: NMFS, Southeast Region, in collaboration with the South Atlantic Fishery Management Council (Council), is publishing this supplemental NOI to provide notice to the public of the broadened scope of Amendment 22 to the Fishery Management Plan for the Snapper-Grouper Fishery in the South Atlantic Region (Amendment 22) and to solicit public comments on the scope of issues to be addressed in the DEIS. The Council modified Amendment 22 to include all snapper-grouper species with low annual catch limits (ACLs), not just red snapper, in a harvest tag program. The intent of Amendment 22 is to closely control recreational harvest of snapper-grouper species with low ACLs.

DATES: Written comments on the scope of issues to be addressed in the DEIS will be accepted until September 3, 2013.

ADDRESSES: You may submit comments on this document, identified by “NOAA-NMFS-2010-0264”, by any of the following methods:

• Electronic Submission: Submit all electronic public comments via the Federal e-Rulemaking Portal. Go to www.regulations.gov/#!docketDetail;D=NOAA-NMFS-2013-0264, click the “Comment Now!” icon, complete the required fields, and enter or attach your comments.

• Mail: Submit written comments to Kate Michie, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Attachments to electronic comments will be accepted in Microsoft Word, Excel, or Adobe PDF file formats only.

FOR FURTHER INFORMATION CONTACT: Kate Michie, Southeast Regional Office, telephone: 727-824-5305, or email: kate.michie@noaa.gov.

SUPPLEMENTARY INFORMATION:

Background

An NOI to prepare a DEIS for Amendment 22 was published on January 3, 2011 (76 FR 101). The NOI listed several options the Council could consider when addressing long-term management for red snapper, including trip limits, bag limits, a catch share program, temporal and spatial closures including those to protect spawning stocks, a tag program, and gear prohibitions. Subsequent to the publication of the 2011 NOI, the Council modified the amendment to remove all species-specific options and create a harvest tag program that could be applied to any snapper-grouper species with small recreational ACLs. Based on these modifications, NMFS is publishing this supplemental NOI to provide notice to the public of the broadened scope of Amendment 22 and to solicit public comments on the scope of issues to be addressed in the DEIS.

In Amendment 22, the Council is considering actions to establish a framework for a recreational harvest tag program that could be applied to any snapper-grouper species that have low ACLs, for example snowy grouper, golden tilefish, and wreckfish. The Council is also considering development of a recreational data collection program that would be linked to the use of harvest tags.

Recreational Harvest Tag Program Framework

Under the Council's purview are several snapper-grouper species with very low recreational ACLs, which are difficult to monitor to prevent the ACLs from being exceeded and triggering accountability measures (AMs). AMs that would reduce the following season's ACL, or shorten the length of the recreational season following an ACL overage, could have adverse economic and social impacts on fishery participants. Additionally, exceeding recreational ACLs could have negative biological effects for the affected species, because the ACLs implemented are intended to prevent overfishing.

Therefore, the Council is considering establishing a framework for a recreational harvest tag program that could be applied to any snapper-grouper species with low recreational ACLs. The intent of such a program is to control recreational harvest by issuing a specific number of harvest tags to individuals or entities that wish to fish for those snapper-grouper species. Each tag would allow its holder to harvest a pre-determined number of a particular species. Only tag holders would be allowed to harvest species included in the tag program.

Harvest Tag Issuance Criteria

The Council is also considering how tags should be distributed and what the process of tag issuance would entail. Amendment 22 contains several options that could be applied to a tag issuance process.

Data Collection

In addition to the use of harvest tags, the Council is considering adding a data collection component that could be tied to the tag program. Amendment 22 contains options for voluntary and required data collection methods that would apply to tag holders.

NMFS, in collaboration with the Council, will develop a DEIS to describe and analyze alternatives to address the management needs described above. Those alternatives will include a “no action” alternative for each action. In accordance with NOAA's Administrative Order 216-6, Section 5.02(c), Scoping Process, NMFS, in collaboration with the Council, has identified preliminary environmental issues as a means to initiate discussion for scoping purposes only. These preliminary issues may not represent the full range of issues that eventually will be evaluated in the DEIS.

After the DEIS associated with Amendment 22 is completed, it will be filed with the Environmental Protection Agency (EPA). After filing, the EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

NMFS will announce, through a document published in the Federal Register, all public comment periods on the final amendment, its proposed implementing regulations, and the availability of its associated FEIS. NMFS will consider all public comments received during the Secretarial review period, whether they are on the final amendment, the proposed regulations, or the FEIS, prior to final agency action.

Public Hearings, Times, and Locations

The Council will hold public hearings to discuss the actions included in Amendment 22. Exact dates, times, and locations will be announced by the Council. The public will be informed, via a notification in the Federal Register, of the exact times, dates, and locations of future scoping meetings and public hearings for Amendment 22.

Authority: 16 U.S.C. 1801 et seq.

Dated: July 29, 2013.
Emily H. Menashes,
Deputy Director, Office of Sustainable Fisheries, National Marine Fisheries Service.

[FR Doc. 2013-18676 Filed 8-1-13; 8:45 am]

BILLING CODE 3510-22-P